POSTAL RATE COMMISSION

Briefing on Data System Changes

AGENCY: Postal Rate Commission.

ACTION: Notice of public briefing; correction.

SUMMARY: The starting time for a United States Postal Service briefing on a proposed merger of two major data reporting systems (previously noticed at 68 FR 52802) has been changed. Instead of beginning at 10 a.m. on September 17, 2003, the briefing will begin at 2 p.m. in the Postal Rate Commission's hearing room. The briefing is open to the public and is expected to last about two hours.

DATES: September 17, 2003, at 2 p.m.

ADDRESSES: Postal Rate Commission (hearing room), 1333 H Street NW., Washington, DC 20268-0001, Suite 300.

FOR FURTHER INFORMATION CONTACT: Stephen L. Sharfman, General Counsel, 202-789-6818.

Steven W. Williams,
Secretary.

[FR Doc. 03-23232 Filed 9-11-03; 8:45 am]

BILLING CODE 7710-FW-M